DEPARTMENT OF THE INTERIOR

Bureau of Land Management

[BLM_MT_FRN_MO #4500171743]

Call for Nominations to the Missouri Basin and Western Montana Resource Advisory Councils

AGENCY: Bureau of Land Management, Interior.

ACTION: Notice of call for nominations.

SUMMARY: The purpose of this notice is to request public nominations for the Bureau of Land Management's (BLM's) Missouri Basin and Western Montana Resource Advisory Councils (RACs) to fill existing vacancies, as well as for member terms that are scheduled to expire. The RACs provide advice and recommendations to the BLM on land use planning and management of the National System of Public Lands within their geographic areas.

DATES: All nominations must be received no later than August 21, 2023.

ADDRESSES: Applications for the Missouri Basin RAC should be sent to Mark Jacobsen, BLM Eastern Montana/Dakotas District Office, 111 Garryowen Road, Miles City, MT 59301; (406) 233-2831; mjacobse@blm.gov; or Gina Baltrusch, BLM North Central Montana District Office, 1220 38th Street N, Great Falls, MT 59405; (406) 791-7778; gbaltrusch@blm.gov.

Applications for the Western Montana RAC should be sent to David Abrams, BLM Butte Field Office, 106 North Parkmont, Butte, MT 59701; (406) 533-7617; dabrams@blm.gov.

FOR FURTHER INFORMATION CONTACT: Ann Boucher, BLM Montana/Dakotas State Office, 5001 Southgate Drive, Billings, MT 59101; (406) 896-5011; aboucher@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Federal Land Policy and Management Act directs the Secretary of the Interior to involve the public in planning and issues related to the management of lands administered by the BLM through the establishment of 10- to 15-member citizen-based advisory councils that are managed in accordance with the Federal Advisory Committee Act (FACA). As required by FACA, RAC membership must be balanced and representative of the various interests concerned with the management of the public lands. The rules governing RACs are found at 43 CFR subpart 1784 and include the following three membership categories:

Category One—Holders of Federal grazing permits or leases within the area for which the RAC is organized; represent interests associated with transportation or rights-of-way; represent developed outdoor recreation, off-highway vehicle users, or commercial recreation activities; represent the commercial timber industry; or represent energy and mineral development.

Category Two—Representatives of nationally or regionally recognized environmental organizations; dispersed recreational activities; archaeological and historical interests; or nationally or regionally recognized wild horse and burro interest groups.

Category Three—Hold State, county, or local elected office; are employed by a State agency responsible for the management of natural resources, land, or water; represent Indian Tribes within or adjacent to the area for which the RAC is organized; are employed as academicians in natural resource management or the natural sciences; or represent the affected public-at-large.

Individuals may nominate themselves or others. Missouri Basin RAC Nominees must be residents of the State of Montana, North Dakota, or South Dakota. Western Montana RAC Nominees must be residents of the State of Montana. The BLM will evaluate nominees based on their education, training, experience, and knowledge of the geographic area of the RAC. Nominees should demonstrate a commitment to collaborative resource decision-making.

The following must accompany all nominations:

—Completed a RAC application, which can either be obtained through the nominee's BLM office or online at: https://www.blm.gov/sites/blm.gov/files/1120-019_0.pdf;

—Letters of reference from represented interests or organizations; and

—Any other information that addresses the nominee's qualifications.

Simultaneous with this notice, the BLM Montana/Dakotas State Office will issue a press release providing additional information for submitting nominations.

Before including any address, phone number, email address, or other personal identifying information in the application, nominees should be aware this information may be made publicly available at any time. While the nominee can ask to withhold the personal identifying information from public review, the BLM cannot guarantee that it will be able to do so.

(Authority: 43 CFR 1784.4-1)

Sonya Germann,
Montana/Dakotas State Director.

[FR Doc. 2023-15358 Filed 7-19-23; 8:45 am]

BILLING CODE 4331-20-P